DEPARTMENT OF JUSTICE

Parole Commission

[6P04091]

Public Announcement; Pursuant To The Government In the Sunshine Act (Public Law 94-409) [5 U.S.C. Section 552b]

Agency Holding Meeting: United States Parole Commission, Department of Justice.

Time and Date: 9:30 a.m., Thursday, September 20, 2001.

Place: 5550 Friendship Blvd., Fourth Floor, Chevy Chase, MD 20815.

Status: Open.

Matters to be Considered: The following matters have been placed on the agenda for the open Parole Commission meeting:

1. Approval of minutes of Previous Commission Meeting.

2. Reports from the Chairman, Commissioners. Legal, Chief of Staff, Case Operations, and Administrative Sections.

3. Approval of Rules and Procedures Manual Provisions on Retardation of Parole Dates for Release Planning; Release Planning in Cases with Effective Parole Dates; Reparole Decisions; Definition of Burglary/Unlawful Entry; and Salient Factor Score Instructions.

4. Proposed Amendment of 28 CFR § 2.23(a) to Delegate to Hearing Examiners the Functions of Making Probable Cause Determinations, Determining the Location of Revocation Hearings, and Determining the Witnesses who Should Attend Such Hearings.

Agency Contact: Sam Robertson, Case Operations, United States Parole Commission, (301) 492-5962.

Dated: September 14, 2001.
Rockne Chickinell,
General Counsel, U.S. Parole Commission.

[FR Doc. 01-23413 Filed 9-17-01; 10:39 am]

BILLING CODE 4410-31-M